DEPARTMENT OF TRANSPORTATION

Federal Aviation Administration

Fifty-Third Meeting: RTCA Special Committee 186: Automatic Dependent Surveillance—Broadcast (ADS-B)

AGENCY: Federal Aviation Administration (FAA), DOT.

ACTION: Notice of RTCA Special Committee 186: Automatic Dependent Surveillance—Broadcast (ADS-B) meeting.

SUMMARY: The FAA is issuing this notice to advise the public of a meeting of RTCA Special Committee 186: Automatic Dependent Surveillance—Broadcast (ADS-B).

DATES: The meeting will be held February 22-25, 2011 from 9 a.m. to 5 p.m., unless stated otherwise in the agenda.

ADDRESSES: The meeting will be held at the RTCA Conference Rooms, 1828 L Street, NW., Suite 805, Washington, DC 20036.

FOR FURTHER INFORMATION CONTACT: RTCA Secretariat, 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186, Automatic Dependent Surveillance—Broadcast (ADS-B) meeting. The agenda will include:

Specific Working Group Sessions:

Tuesday, February 22

• All Day, Requirements Focus Group (RFG), MacIntosh-NBAA Room & Hilton-ATA Room.

Wednesday, February 23

• All Day, Requirements Focus Group (RFG), MacIntosh-NBAA Room & Hilton-ATA Room.

• All Day, WG-6, Application Technical Requirements, Colson Board Room.

Thursday, February 24

• All Day, Requirements Focus Group (RFG), MacIntosh-NBAA Room & Hilton-ATA Room.

• All Day, WG-6, Application Technical Requirements, Colson Board Room.

Friday, February 25 at 8:30 a.m.

Plenary Session

AGENDA—PLENARY SESSION—AGENDA

February 25, 2011

RTCA—Washington, DC—MacIntosh-NBAA Room & Hilton-ATA Room

8:30 a.m.

• Chairman's Introductory Remarks.

• Review of Meeting Agenda.

• Review and Approval of the 52nd Meeting Summary, RTCA Paper No. 007-11/SC186-305.

• Joint SC186/EUROCAE WG51 Business.

○ Consider for Approval—New Document—Safety, Performance and Interoperability Requirements Document for Aircraft Spacing—Flight-deck Interval Management (ASPA-FIM SPR), RTCA Paper No. 001-11/SC186-303.

○ Review of EUROCAE WG-51 Activities.

○ Ad-Hoc Committee Proposal for Revised Application Development Process.

○ Date, Place, and Time of Next Meeting.

○ ADS-B IM Coordination with SC-214/WG-78 for Data Link Rqts Discussion and Status.

○ ADS-B Coordination with SC-206 for Wake Vortex Discussion and Status.

• SC186 Business.

○ FAA Surveillance and Broadcast Services (SBS) Program Status.

○ Working Group Reports.

• WG-1—Operations and Implementation.

• WG-2—TIS-B MASPS—no report.

• WG-3—1090 MHz MOPS—no report.

• WG-4—Application Technical Requirements.

• WG-5—UAT MOPS—no report.

• WG-6—ADS-B MASPS.

• RFG—Requirements Focus Group.

• Revised Terms of Reference (TOR) Discussion.

• New Business.

• Other Business.

• Review Action Items/Work Programs.

• Adjourn Plenary.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 14, 2011.
Robert L. Bostiga,
RTCA Advisory Committee.

[FR Doc. 2011-1269 Filed 1-20-11; 8:45 am]

BILLING CODE 4910-13-P